DEPARTMENT OF ENERGY

Availability of Draft Strategic Plan and Request for Public Comment

AGENCY: Office of the Chief Financial Officer, Department of Energy.

ACTION: Notice of availability of DOE Draft Strategic Plan and request for comment.

SUMMARY: This notice announces the availability of the Department of Energy's draft Strategic Plan. The Government Performance and Results Act of 1993 requires that Federal agencies update their strategic plans every three years and, in doing so, solicit the views and suggestions of those entities potentially affected by or interested in the plan. Therefore, the Department is interested in receiving comments on our draft Strategic Plan.

DATES: Comments are due by September 7, 2006. If comments are received late, we will consider them to the extent practicable.

ADDRESSES: To access the draft strategic plan, go to http://www.energy.gov, on the left side of the Department's homepage under “Quick Reference” select the “Strategic Plan—Public Comment” icon. You can provide your comments on-line through the Web site or by e-mail to StrategicPlan@hq.doe.gov. If you wish to send written comments or have any questions, please direct them to: David Abercrombie, U.S. Department of Energy, Office of Program Analysis and Evaluation, CF-20, 1000 Independence Avenue, SW., Washington, DC 20585.

FOR FURTHER INFORMATION CONTACT: David Abercrombie (202) 586-8664.

SUPPLEMENTARY INFORMATION: The Government Performance and Results Act requires that each Federal agency update their strategic plan every three years, (5 U.S.C. 306), and submit their plan to the Congress. This draft Strategic Plan describes our mission, strategic goals, and strategies to achieve those goals.

Public Participation Policy

It is the policy of the Department to ensure that public participation is an integral and effective part of DOE activities and that decisions are made with the benefit of significant public perspectives. The Department recognizes the many benefits to be derived from public participation for both stakeholders and DOE. Public participation provides a means for DOE to gather a diverse collection of opinions, perspectives, and values from the broadest spectrum possible, enabling the Department to make more informed decisions. Likewise, public participation benefits stakeholders by creating an opportunity to provide input on decisions that affect their communities and our nation.

We anticipate publishing the final Strategic Plan on September 30, 2006 and making it available on the Internet at that time.

Issued in Washington, DC, on August 15, 2006.
James T. Campbell,
Acting Chief Financial Officer.

[FR Doc. E6-13735 Filed 8-18-06; 8:45 am]

BILLING CODE 6450-01-P